DEPARTMENT OF ENERGY

Federal Energy Regulatory Commission

Combined Notice of Filings #1

Wednesday, July 21, 2010.

Take notice that the Commission received the following exempt wholesale generator filings:

Docket Numbers: EG10-53-000.

Applicants: Goshen Phase II LLC.

Description: Self-Certification of EWG Status of Goshen Phase II LLC.

Filed Date: 07/20/2010.

Accession Number: 20100720-5089.

Comment Date: 5 p.m. Eastern Time on Tuesday, August 10, 2010.

Take notice that the Commission received the following electric rate filings:

Docket Numbers: ER03-534-010.

Applicants: Ingenco Wholesale Power, L.L.C.

Description: Notice of Change in Status of Ingenco Wholesale Power, L.L.C.

Filed Date: 07/21/2010.

Accession Number: 20100721-5125.

Comment Date: 5 p.m. Eastern Time on Wednesday, August 11, 2010.

Docket Numbers: ER10-1217-001.

Applicants: PacifiCorp.

Description: Refund Report of PacifiCorp.

Filed Date: 07/21/2010.

Accession Number: 20100721-5093.

Comment Date: 5 p.m. Eastern Time on Wednesday, August 11, 2010.

Docket Numbers: ER10-1637-001.

Applicants: Synergics Roth Rock Wind Energy, LLC.

Description: Synergies Roth Rock Wind Energy, LLC submits amended application for authorization to sell energy and capacity in wholesale transactions at negotiated, market based rates.

Filed Date: 07/20/2010.

Accession Number: 20100720-0209.

Comment Date: 5 p.m. Eastern Time on Tuesday, August 10, 2010.

Docket Numbers: ER10-1673-001.

Applicants: Synergics Roth Rock North Wind Energy, LLC.

Description: Synergics Wind Energy, LLC submits amended application for authorization to sell energy and capacity in wholesale transactions at negotiated, market-based rates.

Filed Date: 07/20/2010.

Accession Number: 20100720-0210.

Comment Date: 5 p.m. Eastern Time on Tuesday, August 10, 2010.

Docket Numbers: ER10-1749-000.

Applicants: ISO New England Inc.

Description: Request of ISO New England Inc. for Limited Waiver of NAESB WEQ Standards (Corrected Version).

Filed Date: 07/20/2010.

Accession Number: 20100720-5042.

Comment Date: 5 p.m. Eastern Time on Tuesday, August 10, 2010.

Docket Numbers: ER10-1817-000.

Applicants: Southwestern Public Service Company.

Description: Southwestern Public Service Company submits tariff filing per 35: 20100720_Baseline Filing to be effective 7/20/2010.

Filed Date: 07/20/2010.

Accession Number: 20100720-5082.

Comment Date: 5 p.m. Eastern Time on Tuesday, August 10, 2010.

Docket Numbers: ER10-1819-000.

Applicants: Northern States Power Company, a Minnesota Corporation.

Description: Northern States Power Company, a Minnesota Corporation submits tariff filing per 35: 20100720_baseline filing to be effective 7/20/2010.

Filed Date: 07/20/2010.

Accession Number: 20100720-5093.

Comment Date: 5 p.m. Eastern Time on Tuesday, August 10, 2010.

Docket Numbers: ER10-1820-000.

Applicants: Northern States Power Company, a Wisconsin Corporation.

Description: Northern States Power Company, a Wisconsin Corporation submits tariff filing per 35: 20100720_Baseline Filing to be effective 7/20/2010.

Filed Date: 07/20/2010.

Accession Number: 20100720-5094.

Comment Date: 5 p.m. Eastern Time on Tuesday, August 10, 2010.

Docket Numbers: ER10-1821-000.

Applicants: Goshen Phase II LLC.

Description: Goshen Phase II LLC submits tariff filing per 35.12: MBR Application of Goshen Phase II LLC to be effective 9/1/2010.

Filed Date: 07/20/2010.

Accession Number: 20100720-5095.

Comment Date: 5 p.m. Eastern Time on Tuesday, August 10, 2010.

Docket Numbers: ER10-1822-000.

Applicants: Maine Electric Power Company.

Description: Maine Electric Power Company submits an Amendment to the Basic Operating Agreement.

Filed Date: 07/20/2010.

Accession Number: 20100720-0208.

Comment Date: 5 p.m. Eastern Time on Tuesday, August 10, 2010.

Docket Numbers: ER10-1823-000.

Applicants: Dominion Energy Marketing, Inc.

Description: Dominion Energy Marketing, Inc. submits tariff filing per 35.12: Baseline to be effective 7/20/2010.

Filed Date: 07/20/2010.

Accession Number: 20100720-5105.

Comment Date: 5 p.m. Eastern Time on Tuesday, August 10, 2010.

Docket Numbers: ER10-1824-000.

Applicants: Southern California Edison Company.

Description: Southern California Edison Company submits tariff filing per 35.13(a)(2)(iii): SGIA-DSA_GBU_N_072110 to be effective 7/22/2010.

Filed Date: 07/21/2010.

Accession Number: 20100721-5000.

Comment Date: 5 p.m. Eastern Time on Wednesday, August 11, 2010.

Docket Numbers: ER10-1825-000.

Applicants: Cleco Evangeline LLC.

Description: Cleco Evangeline LLC submits tariff filing per 35.12: Cleco Evangeline MBR Baseline to be effective 7/21/2010.

Filed Date: 07/21/2010.

Accession Number: 20100721-5001.

Comment Date: 5 p.m. Eastern Time on Wednesday, August 11, 2010.

Docket Numbers: ER10-1826-000.

Applicants: Acadia Power Partners, L.L.C.

Description: Acadia Power Partners, L.L.C. submits tariff filing per 35.12: Acadia Power Partner Market Based Rate Tariff to be effective 7/21/2010.

Filed Date: 07/21/2010.

Accession Number: 20100721-5002.

Comment Date: 5 p.m. Eastern Time on Wednesday, August 11, 2010.

Docket Numbers: ER10-1827-000.

Applicants: Cleco Power LLC.

Description: Cleco Power LLC submits tariff filing per 35.12: Cleco Power Market Based Rate Tariff to be effective 7/21/2010.

Filed Date: 07/21/2010.

Accession Number: 20100721-5003.

Comment Date: 5 p.m. Eastern Time on Wednesday, August 11, 2010.

Docket Numbers: ER10-1828-000.

Applicants: Mirant Bowline, LLC.

Description: Mirant Bowline, LLC submits tariff filing per 35.12: Market-Based Rate Tariff in Compliance With Order No. 714 to be effective 7/21/2010.

Filed Date: 07/21/2010.

Accession Number: 20100721-5058.

Comment Date: 5 p.m. Eastern Time on Wednesday, August 11, 2010.

Docket Numbers: ER10-1829-000.

Applicants: Mirant Canal, LLC.

Description: Mirant Canal, LLC submits tariff filing per 35.12: Market-Based Rate Tariff in Compliance with Order No. 714 to be effective 7/21/2010.

Filed Date: 07/21/2010.

Accession Number: 20100721-5059.

Comment Date: 5 p.m. Eastern Time on Wednesday, August 11, 2010.

Docket Numbers: ER10-1830-000.

Applicants: Mirant Chalk Point, LLC.

Description: Mirant Chalk Point, LLC submits tariff filing per 35.12: Market-Based Rate Tariff in Compliance with Order No. 714 to be effective 7/21/2010.

Filed Date: 07/21/2010.

Accession Number: 20100721-5061.

Comment Date: 5 p.m. Eastern Time on Wednesday, August 11, 2010.

Docket Numbers: ER10-1831-000.

Applicants: Mirant Delta, LLC.

Description: Mirant Delta, LLC submits tariff filing per 35.12: Market-Based Rate Tariff in Compliance with Order No. 714 to be effective 7/21/2010.

Filed Date: 07/21/2010.

Accession Number: 20100721-5062.

Comment Date: 5 p.m. Eastern Time on Wednesday, August 11, 2010.

Docket Numbers: ER10-1832-000.

Applicants: Mirant Kendall, LLC.

Description: Mirant Kendall, LLC submits tariff filing per 35.12: Market-Based Rate Tariff in Compliance with Order No. 714 to be effective 7/21/2010.

Filed Date: 07/21/2010.

Accession Number: 20100721-5063.

Comment Date: 5 p.m. Eastern Time on Wednesday, August 11, 2010.

Docket Numbers: ER10-1833-000.

Applicants: Mirant Mid-Atlantic, LLC.

Description: Mirant Mid-Atlantic, LLC submits tariff filing per 35.12: Market-Based Rate Tariff in Compliance with Order No. 714 to be effective 7/21/2010.

Filed Date: 07/21/2010.

Accession Number: 20100721-5064.

Comment Date: 5 p.m. Eastern Time on Wednesday, August 11, 2010.

Docket Numbers: ER10-1834-000.

Applicants: Mirant Potomac River, LLC.

Description: Mirant Potomac River, LLC submits tariff filing per 35.12: Market-Based Rate Tariff in Compliance with Order No. 714 to be effective 7/21/2010.

Filed Date: 07/21/2010.

Accession Number: 20100721-5065.

Comment Date: 5 p.m. Eastern Time on Wednesday, August 11, 2010.

Docket Numbers: ER10-1835-000.

Applicants: Mirant Potrero, LLC.

Description: Mirant Potrero, LLC submits tariff filing per 35.12: Market-Based Rate Tariff in Compliance with Order No. 714 to be effective 7/21/2010.

Filed Date: 07/21/2010.

Accession Number: 20100721-5066.

Comment Date: 5 p.m. Eastern Time on Wednesday, August 11, 2010.

Docket Numbers: ER10-1836-000.

Applicants: Ashtabula Wind, LLC.

Description: Ashtabula Wind, LLC submits tariff filing per 35.12: Ashtabula Baseline Filing to be effective 7/21/2010.

Filed Date: 07/21/2010.

Accession Number: 20100721-5067.

Comment Date: 5 p.m. Eastern Time on Wednesday, August 11, 2010.

Docket Numbers: ER10-1837-000.

Applicants: Ashtabula Wind II, LLC.

Description: Ashtabula Wind II, LLC submits tariff filing per 35.12: Ashtabula II Baseline Filing to be effective 7/21/2010.

Filed Date: 07/21/2010.

Accession Number: 20100721-5073.

Comment Date: 5 p.m. Eastern Time on Wednesday, August 11, 2010.

Docket Numbers: ER10-1838-000.

Applicants: Backbone Mountain Windpower, LLC.

Description: Backbone Mountain Windpower, LLC submits tariff filing per 35.12: Backbone Baseline Filing to be effective 7/21/2010.

Filed Date: 07/21/2010.

Accession Number: 20100721-5078.

Comment Date: 5 p.m. Eastern Time on Wednesday, August 11, 2010.

Docket Numbers: ER10-1839-000.

Applicants: Badger Windpower, LLC.

Description: Badger Windpower, LLC submits tariff filing per 35.12: Badger Baseline Filing to be effective 7/21/2010.

Filed Date: 07/21/2010.

Accession Number: 20100721-5079.

Comment Date: 5 p.m. Eastern Time on Wednesday, August 11, 2010.

Docket Numbers: ER10-1840-000.

Applicants: Blythe Energy, LLC.

Description: Blythe Energy, LLC submits tariff filing per 35.12: Blythe Baseline Filing to be effective 7/21/2010.

Filed Date: 07/21/2010.

Accession Number: 20100721-5086.

Comment Date: 5 p.m. Eastern Time on Wednesday, August 11, 2010.

Docket Numbers: ER10-1841-000.

Applicants: Butler Ridge Wind Energy Center, LLC.

Description: Butler Ridge Wind Energy Center, LLC submits tariff filing per 35.12: Butler Ridge Baseline Filing to be effective 7/21/2010.

Filed Date: 07/21/2010.

Accession Number: 20100721-5089.

Comment Date: 5 p.m. Eastern Time on Wednesday, August 11, 2010.

Docket Numbers: ER10-1842-000.

Applicants: Calhoun Power Company I, LLC.

Description: Calhoun Power Company I, LLC submits tariff filing per 35.12: Calhoun I Baseline Filing to be effective 7/21/2010.

Filed Date: 07/21/2010.

Accession Number: 20100721-5090.

Comment Date: 5 p.m. Eastern Time on Wednesday, August 11, 2010.

Docket Numbers: ER10-1843-000.

Applicants: Crystal Lake Wind, LLC.

Description: Crystal Lake Wind, LLC submits tariff filing per 35.12: Crystal Lake I Baseline Filing to be effective 7/21/2010.

Filed Date: 07/21/2010.

Accession Number: 20100721-5094.

Comment Date: 5 p.m. Eastern Time on Wednesday, August 11, 2010.

Docket Numbers: ER10-1844-000.

Applicants: Crystal Lake Wind II, LLC.

Description: Crystal Lake Wind II, LLC submits tariff filing per 35.12: Crystal Lake II Baseline Filing to be effective 7/21/2010.

Filed Date: 07/21/2010.

Accession Number: 20100721-5098.

Comment Date: 5 p.m. Eastern Time on Wednesday, August 11, 2010.

Docket Numbers: ER10-1845-000.

Applicants: Crystal Lake Wind III, LLC.

Description: Crystal Lake Wind III, LLC submits tariff filing per 35.12: Crystal Lake III Baseline Filing to be effective 7/21/2010.

Filed Date: 07/21/2010.

Accession Number: 20100721-5100.

Comment Date: 5 p.m. Eastern Time on Wednesday, August 11, 2010.

Docket Numbers: ER10-1846-000.

Applicants: Day County Wind, LLC.

Description: Day County Wind, LLC submits tariff filing per 35.12: Day County Baseline Filing to be effective 7/21/2010.

Filed Date: 07/21/2010.

Accession Number: 20100721-5106.

Comment Date: 5 p.m. Eastern Time on Wednesday, August 11, 2010.

Docket Numbers: ER10-1847-000.

Applicants: Diablo Winds, LLC.

Description: Diablo Winds, LLC submits tariff filing per 35.12: Diablo Baseline Filing to be effective 7/21/2010.

Filed Date: 07/21/2010.

Accession Number: 20100721-5109.

Comment Date: 5 p.m. Eastern Time on Wednesday, August 11, 2010.

Docket Numbers: ER10-1848-000.

Applicants: Carolina Power & Light Company.

Description: Carolina Power & Light Company Notice of Cancellation of Rate Schedule 186 and Transmission Service Agreement.

Filed Date: 07/21/2010.

Accession Number: 20100721-5122.

Comment Date: 5 p.m. Eastern Time on Wednesday, August 11, 2010.

Docket Numbers: ER10-1849-000.

Applicants: Elk City Wind, LLC.

Description: Elk City Wind, LLC submits tariff filing per 35.12: Elk City Baseline Filing to be effective 7/21/2010.

Filed Date: 07/21/2010.

Accession Number: 20100721-5126.

Comment Date: 5 p.m. Eastern Time on Wednesday, August 11, 2010.

Docket Numbers: ER10-1851-000.

Applicants: ESI Vansycle Partners, L.P.

Description: ESI Vansycle Partners, L.P. submits tariff filing per 35.12: ESI Vansycle Baseline Filing to be effective 7/21/2010.

Filed Date: 07/21/2010.

Accession Number: 20100721-5127.

Comment Date: 5 p.m. Eastern Time on Wednesday, August 11, 2010.

Docket Numbers: ER10-1852-000.

Applicants: Florida Power & Light Company.

Description: Florida Power & Light Company submits tariff filing per 35.12: FPL MBR Baseline Filing to be effective 7/21/2010.

Filed Date: 07/21/2010.

Accession Number: 20100721-5128.

Comment Date: 5 p.m. Eastern Time on Wednesday, August 11, 2010.

Docket Numbers: ER10-1853-000.

Applicants: Dominion Energy New England, Inc.

Description: Dominion Energy New England, Inc. submits tariff filing per 35.12: Baseline to be effective 7/21/2010.

Filed Date: 07/21/2010.

Accession Number: 20100721-5129.

Comment Date: 5 p.m. Eastern Time on Wednesday, August 11, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St, NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-18601 Filed 7-28-10; 8:45 am]

BILLING CODE 6717-01-P